DEPARTMENT OF COMMERCE

Foreign-Trade Zones Board

[B-86-2016]

Foreign-Trade Zone (FTZ) 38—Spartanburg County, South Carolina Authorization of Production Activity, Black & Decker (U.S.) Inc., Subzone 38E, (Power Tools) Fort Mill, South Carolina

On December 15, 2016, Black & Decker (U.S.) Inc., submitted a notification of proposed production activity to the Foreign-Trade Zones (FTZ) Board for its facility within Subzone 38E, in Fort Mill, South Carolina.

The notification was processed in accordance with the regulations of the FTZ Board (15 CFR part 400), including notice in the Federal Register inviting public comment (81 FR 95961, December 29, 2017). The FTZ Board has determined that no further review of the activity is warranted at this time. The production activity described in the notification is authorized, subject to the FTZ Act and the FTZ Board's regulations, including Section 400.14.

Dated: April 14, 2017.
Elizabeth Whiteman,
Acting Executive Secretary.

[FR Doc. 2017-07898 Filed 4-18-17; 8:45 am]

BILLING CODE 3510-DS-P